DEPARTMENT OF TRANSPORTATION

Federal Aviation Administration

Land Release for Canandaigua Airport (D38)

AGENCY: Federal Aviation Administration, DOT.

ACTION: Notice, Request for Public Comment.

SUMMARY: The Federal Aviation Administration is requesting public comment on the Canandaigua Airport (D38), Canandaigua, New York, Notice of Proposed Release from Aeronautical Use of approximately 8.315 +/− acres of airport property, to allow for non-aeronautical development.

The parcel is located approximately west of the midpoint of Runway 13-31 at the Canandaigua Airport. The tract currently consists of 8.315 +/− acres and it is currently vacant. The requested release is for the purpose of permitting the Ontario County Industrial Development Agency (Airport Sponsor) to convey title of 8.315 +/− acres to Paul and Susan Yarnall in exchange for a 4.20 +/− acre parcel previously conveyed to the Ontario County Industrial Development Agency by Paul and Susan Yarnall. Documents reflecting the Sponsor's request are available, by appointment only, for inspection at the Office of the Ontario County Industrial Development Agency and the FAA New York Airport District Office.

DATES: Comments must be received by June 19, 2014.

ADDRESSES: Comments on this application may be mailed or delivered to the FAA at the following address: Steven M. Urlass, Manager, FAA New York Airports District Office, 1 Aviation Plaza, Jamaica, New York 11434. In addition, a copy of any comments submitted to the FAA must be mailed or delivered to Mr. Michael Manikowski, Executive Director, Ontario County Industrial Development Agency, at the following address: 20 Ontario Street, Suite 1068, Canandaigua, NY 14424.

FOR FURTHER INFORMATION CONTACT: Steven M. Urlass, Manager, New York Airports District Office, 1 Aviation Plaza, Jamaica, New York 11434; telephone (718) 995-5771; FAX (718) 995-5790; email Steve.Urlass@faa.gov.

SUPPLEMENTARY INFORMATION: Section 125 of the Wendell H. Ford Aviation Investment and Reform Act for the 1st Century (AIR21) requires the FAA to provide an opportunity for public notice and comment before the Secretary may waive a Sponsor's Federal obligation to use certain airport land for aeronautical use.

Issued in Garden City, New York, on May 12, 2014.
Steven M. Urlass,
Manager, New York, Airports District Office, Eastern Region.

[FR Doc. 2014-11560 Filed 5-19-14; 8:45 am]

BILLING CODE 4910-13-P